POSTAL REGULATORY COMMISSION

[Docket No. ACR2018; Order No. 4988]

Annual Compliance Report, 2018

AGENCY: Postal Regulatory Commission.

ACTION: Notice.

SUMMARY: In light of the lapse of appropriations resulting in suspension of Commission operations and to allow time for public comment, the Commission is extending the comment deadlines in this docket by two weeks.

DATES: Comments are due: February 14, 2019. Reply Comments are due: February 25, 2019.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On December 31, 2018, the Commission established Docket No. ACR2018 to consider matters raised by the United States Postal Service's FY 2018 Annual Compliance Report (ACR).¹ Shortly thereafter, on close of business January 11, 2019, the Commission suspended operations due to a lapse in appropriations. As a result of this lapse in appropriations, the Commission's electronic filing system was shut down and participants in this docket could not file documents. During this time period until the Commission resumed operations on January 28, 2019, the Commission was unable to continue its review of the Postal Service's ACR submission.

¹ Notice of Postal Service's Filing of Annual Compliance Report and Request for Public Comments, December 31, 2018 (Order No. 4960); United States Postal Service FY 2018 Annual Compliance Report, December 28, 2018 (FY 2018 ACR).

In light of the lapse of appropriations resulting in suspension of Commission operations and to allow time for public comment, the Commission is extending the comment deadlines in this docket by two weeks.² The Commission hereby extends the deadline for filing comments from January 31, 2019, to February 14, 2019. The deadline for filing reply comments is extended from February 11, 2019, to February 25, 2019.

² On January 28, 2019, the day the Commission resumed operations, United Parcel Service, Inc. (UPS) filed a motion requesting a three-week extension of the deadlines for filing comments and reply comments in this docket. Motion of United Parcel Service, Inc. to Extend Filing Deadlines, January 28, 2019 (Motion). To the extent this order extends the deadline for filing comments and reply comments by two weeks, the Motion is moot. With respect to the additional week requested by UPS, the Motion is denied. The Commission finds insufficient support for an extension beyond the time the Commission suspended operations. A two-week extension will place all parties back to the status quo as if the suspension of operations did not occur.

The Commission may also toll the timeframe for its Annual Compliance Determination (ACD) by a period of up to two weeks if needed to complete its review of the FY 2018 ACR, comments, and other data and information submitted in this proceeding.

It is ordered:

1. Comments on the United States Postal Service's FY 2018 Annual Compliance Report to the Commission are due on or before February 14, 2019.

2. Reply comments are due on or before February 25, 2019.

3. The Secretary shall arrange for publication of this order in the Federal Register.

By the Commission.
Stacy L. Ruble,
Secretary.

[FR Doc. 2019-00743 Filed 1-31-19; 8:45 am]

BILLING CODE 7710-FW-P